COMMITTEE FOR THE IMPLEMENTATION OF TEXTILE AGREEMENTS

Adjustment of Import Limits for Certain Cotton, Wool and Man-Made Fiber Textiles and Textile Products Produced or Manufactured in the People's Republic of China

June 5, 2003.

AGENCY: Committee for the Implementation of Textile Agreements (CITA).

ACTION: Issuing a directive to the Commissioner, Bureau of Customs and Border Protection adjusting limits.

EFFECTIVE DATE: June 12, 2003.

FOR FURTHER INFORMATION CONTACT: Naomi Freeman, International Trade Specialist, Office of Textiles and Apparel, U.S. Department of Commerce, (202) 482-4212. For information on the quota status of these limits, refer to the Quota Status Reports posted on the bulletin boards of each Customs port, call (202) 927-5850, or refer to the Bureau of Customs and Border Protection Web site at http://www.customs.gov. For information on embargoes and quota re-openings, refer to the Office of Textiles and Apparel Web site at http://otexa.ita.doc.gov.

SUPPLEMENTARY INFORMATION:

Authority: Section 204 of the Agricultural Act of 1956, as amended (7 U.S.C. 1854); Executive Order 11651 of March 3, 1972, as amended.

The current limits for certain categories are being reduced for carryforward used.

A description of the textile and apparel categories in terms of HTS numbers is available in the CORRELATION: Textile and Apparel Categories with the Harmonized Tariff Schedule of the United States (see Federal Register notice 68 FR 1599, published on January 13, 2002). Also see 67 FR 63891, published on October 16, 2002.

James C. Leonard III,
Chairman, Committee for the Implementation of Textile Agreements.

Committee for the Implementation of Textile Agreements

June 5, 2003.

Commissioner,

Bureau of Customs and Border Protection, Washington, DC 20229.

Dear Commissioner: This directive amends, but does not cancel, the directive issued to you on October 9, 2002, by the Chairman, Committee for the Implementation of Textile Agreements. That directive concerns imports of certain cotton, wool, man-made fiber, silk blend and other vegetable fiber textiles and textile products, produced or manufactured in China and exported during the twelve-month period which began on January 1, 2003 and extends through December 31, 2003.

Effective on June 12, 2003, you are directed to reduce the limits for the following categories, as provided for under the Uruguay Round Agreement on Textiles and Clothing:

Category | Twelve-month limit ¹
Sublevels in Group I |
317/326 | 24,701,692 square meters of which not more than 4,589,417 square meters shall be in Category 326.
335 | 387,745 dozen.
336 | 194,035 dozen.
338/339 | 2,334,524 dozen of which not more than 1,783,565 dozen shall be in Categories 338-S/339-S ².
340 | 796,599 dozen of which not more than 410,497 dozen shall be in Category 340-Z ³.
341 | 698,800 dozen of which not more than 426,831 dozen shall be in Category 341-Y ⁴.
342 | 279,419 dozen.
347/348 | 2,297,290 dozen.
351 | 639,733 dozen.
352 | 1,669,894 dozen.
361 | 4,733,235 numbers.
362 | 7,754,288 numbers.
363 | 22,632,509 numbers.
443 | 129,418 numbers.
445/446 | 280,700 dozen.
447 | 72,004 dozen.
614 | 13,495,825 square meters.
636 | 574,966 dozen.
638/639 | 2,493,889 dozen.
640 | 1,377,989 dozen.
641 | 1,303,838 dozen.
642 | 375,597 dozen.
644 | 3,572,431 numbers.
648 | 1,149,812 dozen.
651 | 851,427 dozen of which not more than 150,661 dozen shall be in Category 651-B ⁵.
652 | 3,200,952 dozen.
666pt. ⁶ | 516,784 kilograms.
¹ The limits have not been adjusted to account for any imports exported after December 31, 2002.
² Category 338-S: all HTS numbers except 6109.10.0012, 6109.10.0014, 6109.10.0018 and 6109.10.0023; Category 339-S: all HTS numbers except 6109.10.0040, 6109.10.0045, 6109.10.0060 and 6109.10.0065.
³ Category 340-Z: only HTS numbers 6205.20.2015, 6205.20.2020, 6205.20.2050 and 6205.20.2060.
⁴ Category 341-Y: only HTS numbers 6204.22.3060, 6206.30.3010, 6206.30.3030 and 6211.42.0054.
⁵ Category 651-B: only HTS numbers 6107.22.0015 and 6108.32.0015.
⁶ Category 666pt.: all HTS numbers except 5805.00.4010, 6301.10.0000, 6301.40.0010, 6301.40.0020, 6301.90.0010, 6302.53.0010, 6302.53.0020, 6302.53.0030, 6302.93.1000, 6302.93.2000, 6303.12.0000, 6303.19.0010, 6303.92.1000, 6303.92.2010, 6303.92.2020, 6303.99.0010, 6304.11.2000, 6304.19.1500, 6304.19.2000, 6304.91.0040, 6304.93.0000, 6304.99.6020, 6307.90.9884, 9404.90.8522 and 9404.90.9522.

The Committee for the Implementation of Textile Agreements has determined that these actions fall within the foreign affairs exception to the rulemaking provisions of 5 U.S.C. 553(a)(1).

Sincerely,

James C. Leonard III,

Chairman, Committee for the Implementation of Textile Agreements.

[FR Doc.03-14826 Filed 6-11-03; 8:45 am]

BILLING CODE 3510-DR-S